COMMITTEE FOR PURCHASE FROM PEOPLE WHO ARE BLIND OR SEVERELY; DISABLED

Procurement List; Proposed Deletions

AGENCY: Committee for Purchase From People Who Are Blind or Severely Disabled.

ACTION: Proposed Deletions from the Procurement List.

SUMMARY: The Committee is proposing to delete products previously furnished by a nonprofit agency employing persons who are blind or have other severe disabilities.

DATES: Comments must be received on or before: December 18, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

Products

NSN(s)—Product Name(s)—

7510-01-545-3778—DAYMAX System, 2015, Calendar Pad, Type II

7510-01-545-3782—DAYMAX System, 2015, Calendar Pad, Type I

Mandatory Source(s) of Supply: Anthony Wayne Rehabilitation Center for Handicapped and Blind, Inc., Fort Wayne, IN

Contracting Activity: General Services Administration, New York, NY

Barry S. Lineback,
Director, Business Operations.

[FR Doc. 2016-27841 Filed 11-17-16; 8:45 am]

BILLING CODE 6353-01-P